DEPARTMENT OF DEFENSE

Office of the Secretary

[Transmittal No. 22-37]

Arms Sales Notification

AGENCY: Defense Security Cooperation Agency, Department of Defense (DoD).

ACTION: Arms sales notice.

SUMMARY: The DoD is publishing the unclassified text of an arms sales notification.

FOR FURTHER INFORMATION CONTACT: Neil Hedlund at neil.g.hedlund.civ@mail.mil or (703) 697-9214.

SUPPLEMENTARY INFORMATION: This 36(b)(1) arms sales notification is published to fulfill the requirements of section 155 of Public Law 104-164 dated July 21, 1996. The following is a copy of a letter to the Speaker of the House of Representatives, Transmittal 22-37 with attached Policy Justification and Sensitivity of Technology.

Dated: June 10, 2024.
Aaron T. Siegel,
Alternate OSD Federal Register Liaison Officer, Department of Defense.

BILLING CODE 6001-FR-P

BILLING CODE 6001-FR-C

Transmittal No. 22-37

Notice of Proposed Issuance of Letter of Offer Pursuant to Section 36(b)(1) of the Arms Export Control Act, as amended

(i) Prospective Purchaser: Government of Singapore

(ii) Total Estimated Value:

Major Defense Equipment * | $ 14.7 million
Other | $615.3 million
TOTAL | $630.0 million

Funding Source: National Funds

(iii) Description and Quantity or Quantities of Articles or Services under Consideration for Purchase:

Major Defense Equipment (MDE):

Ninety (90) MXU-651 Air Foil Groups (AFGs) for 2000LB Paveway II (PWII), GBU-10

Ninety (90) MAU-169 or MAU-209 Computer Control Groups (CCGs) for 2000LB PWII, GBU-10

One hundred forty (140) MXU-650 AFGs for 500LB PW-II, GBU-12

One hundred forty (140) MAU-169 or MAU-209 CCGs for 500LB PWII, GBU-12

Twenty (20) Joint Direct Attack Munition (JDAM) KMU-556 tail kits for GBU-31

Twenty-two (22) JDAM KMU-572 tail kits for Laser JDAM, GBU-54

Two hundred (200) FMU-152 Fuzes

Fifty (50) MK-84 2000LB General Purpose (GP) Bombs

Fifty (50) MK-82 500LB GP Bombs

Six hundred twenty-five (625) Mk-82 500LB Inert Bombs

Non-MDE:

Also included are DSU-38 and -40 Precision Laser Guidance Sets (PLGS) for Laser JDAM, GBU-54; KGV-135A cryptographic devices; impulse cartridges, chaff, and flares; training rounds and practice bombs; classified and unclassified software delivery and support; classified and unclassified publications and technical documentation; integration support and test equipment; aircraft and munitions support and support equipment; telemetry kits; military exercise participation and support; transportation, airlift, and aircraft ferry support; jet fuel; aerial refueling support; personnel training, and training equipment and maintenance; medical and other exercise- and training-related services and support; personnel clothing and equipment; facilities and construction support; and U.S. Government and contractor engineering, technical, maintenance, and logistics support services, as well as other related elements of logistical and program support.

(iv) Military Department: Air Force (SN-D-NAA)

(v) Prior Related Cases, if any: SN-D-NAG

(vi) Sales Commission, Fee, etc., Paid, Offered, or Agreed to be Paid: None known at this time

(vii) Sensitivity of Technology Contained in the Defense Article or Defense Services Proposed to be Sold: See Attached Annex

(viii) Date Report Delivered to Congress: July 25, 2022

* As defined in Section 47(6) of the Arms Export Control Act.

POLICY JUSTIFICATION

Singapore—Munitions and Follow-On Training and Sustainment for PEACE CARVIN V (F-15 Training Detachment)

The Government of Singapore has requested to buy ninety (90) MXU-651 AFGs for 2000LB Paveway II (PWII), GBU-10; ninety (90) MAU-169 or MAU-209 CCGs for 2000LB PWII, GBU-10; one hundred forty (140) MXU-650 AFGs for 500LB PW-II, GBU-12; one hundred forty (140) MAU-169 or MAU-209 CCGs for 500LB PWII, GBU-12; twenty (20) JDAM KMU-556 tail kits for GBU-31; twenty-two (22) JDAM KMU-572 tail kits for Laser JDAM, GBU-54; two hundred (200) FMU-152 fuzes; fifty (50) MK-84 2000LB GP bombs; fifty (50) MK-82 500LB GP bombs; and six hundred twenty-five (625) Mk-82 500LB inert bombs. Also included are DSU-38 and -40 PLGS for Laser JDAM, GBU-54; KGV-135A cryptographic devices; impulse cartridges, chaff, and flares; training rounds and practice bombs; classified and unclassified software delivery and support; classified and unclassified publications and technical documentation; integration support and test equipment; aircraft and munitions support and support equipment; telemetry kits; military exercise participation and support; transportation, airlift, and aircraft ferry support; jet fuel; aerial refueling support; personnel training, and training equipment and maintenance; medical and other exercise- and training-related services and support; personnel clothing and equipment; facilities and construction support; and U.S. Government and contractor engineering, technical, maintenance, and logistics support services, as well as other related elements of logistical and program support. The total estimated program cost is $630 million.

This proposed sale will support the foreign policy and national security objectives of the United States by improving the security of a strategic partner that is an important force for political stability and economic progress in Asia.

The proposed sale will enable the Singapore Air Force to continue its flight training program to develop mission-ready and experienced pilots to safely and effectively fly its F-15 aircraft, as part of the Peace Carvin V Detachment Training Program. The well-established pilot proficiency training program at Mountain Home Air Force Base will support professional interaction and enhance operational interoperability with U.S. Forces. Singapore will have no difficulty absorbing this equipment and support into its armed forces.

This proposed sale will not alter the basic military balance in the region.

There is no prime contractor involved in this proposed sale. Manpower support will be determined through competition with defense articles anticipated to come from U.S. inventory, as needed. Sources of supply may award contracts when necessary to provide the defense articles if items are not available from U.S. inventory or are considered long lead-time away. There are no known offset agreements proposed in connection with this sale.

Implementation of this proposed sale will not require the assignment of any additional U.S. Government or contractor representatives to Singapore.

There will be no adverse impact on U.S. defense readiness as a result of this proposed sale.

Transmittal No. 22-37

Notice of Proposed Issuance of Letter of Offer Pursuant to Section 36(b)(1) of the Arms Export Control Act

Annex

Item No. vii

(vii) Sensitivity of Technology:

1. The Paveway II (PWII) is a maneuverable, free-fall Laser Guided Bomb (LGB) that guides to a spot of laser energy reflected off the target. The LGB is delivered like a normal GP warhead and the semi-active guidance corrects for many of the normal errors inherent in any delivery system. Laser designation can be provided by a variety of laser target markers or designators. A LGB consists of a non-warhead specific MAU-209 or MAU-169 CCG and a warhead specific AFG that attaches to the nose and tail of the GP bomb body respectively.

• The GBU-12 is a 500LB GP bomb body fitted with the MXU-650 AFG to guide to its laser designated target.

• The GBU-10 is a 2000LB GP bomb body fitted with the MXU-651 AFG to guide to its laser designated target. The inert GBU-12 uses a BDU-50 inert bomb body and MAU-169 CCG for training purposes.

2. The Joint Direct Attack Munitions (JDAM) is a guidance set which converts unguided bombs into an accurate, adverse weather “smart” munition. The Guidance Set consists of a Tail Kit, which contains the Inertial Navigation System (INS) and a Global Positioning System (GPS), a set of Aerosurfaces and an umbilical cover, which allows the JDAM to improve the accuracy of unguided, general purpose bombs. The JDAM weapon can be delivered from modest standoff ranges at high or low altitudes against a variety of land and surface targets during the day or night. The JDAM is capable of receiving target coordinates via preplanned mission data from the delivery aircraft, by onboard aircraft sensors (i.e., FLIR, Radar, etc.) during captive carry, or from a third-party source via manual or automated aircrew cockpit entry. The Guidance Set, when combined with a warhead and appropriate fuze, forms a JDAM Guided Bomb Unit (GBU).

• The GBU-38 is a 500LB bomb body fitted with a KMU-572 guidance kit.

• The GBU-31 is a 2000LB bomb body fitted with a KMU-556 guidance kit.

3. The Laser Joint Direct Attack Munition (LJDAM) is a JDAM that incorporates all the capabilities of the JDAM guidance tail kit and adds a precision laser guidance set (DSU-38 or DSU-40). The LJDAM gives the weapon system an optional semi-active laser guidance in addition to the INS/GPS guidance. This provides the optional capability to strike moving targets. The GBU-54 is a 500LB bomb body fitted with a laser guidance set and KMU-572 guidance kit.

4. The KGV-135A is a high-speed, general purpose encryptor/decryptor module used for wide-band data encryption.

5. The highest level of classification of defense articles, components, and services included in this potential sale is SECRET.

6. If a technologically advanced adversary were to obtain knowledge of the specific hardware and software elements, the information could be used to develop countermeasures that might reduce weapon system effectiveness or be used in the development of a system with similar or advanced capabilities.

7. A determination has been made that Singapore can provide substantially the same degree of protection for the sensitive technology being released as the U.S. Government. This sale is necessary in furtherance of the U.S. foreign policy and national security objectives outlined in the Policy Justification.

8. All defense articles and services listed in this transmittal have been authorized for release and export to the Government of Singapore.

[FR Doc. 2024-12945 Filed 6-12-24; 8:45 am]

BILLING CODE 6001-FR-P